DEPARTMENT OF TRANSPORTATION

Federal Aviation Administration

14 CFR Part 39

[Docket No. 98-ANE-37-AD; Amendment 39-12901; AD 2002-20-05]

RIN 2120-AA64

Airworthiness Directives; Breeze Eastern Aerospace Rescue Hoists

AGENCY: Federal Aviation Administration, DOT.

ACTION: Final rule.

SUMMARY: This amendment adopts a new airworthiness directive (AD), that is applicable to certain Breeze Eastern Aerospace rescue hoists. This amendment requires a one-time inspection of the mounting brackets for cracks, and, if necessary, replacement with serviceable parts. This amendment is prompted by reports of cracked mounting brackets. The actions specified by this AD are intended to prevent mounting bracket cracks, which could result in mounting bracket failure and separation of the rescue hoist from the helicopter.

DATES: Effective November 7, 2002. The incorporation by reference of certain publications listed in the regulations is approved by the Director of the Federal Register as of November 7, 2002.

ADDRESSES: The service information referenced in this AD may be obtained from Breeze Eastern Aerospace, 700 Liberty Avenue, Union, NJ 07083; telephone (908) 686-4000; fax (908) 686-9292. This information may be examined, by appointment, at the Federal Aviation Administration (FAA), New England Region, Office of the Regional Counsel, 12 New England Executive Park, Burlington, MA.

FOR FURTHER INFORMATION CONTACT: Serge Napoleon, Aerospace Engineer, New York Aircraft Certification Office, FAA, Engine and Propeller Directorate, 10 Fifth Street, Third Floor, Valley Stream, NY 11581-1200; telephone (516) 256-7512; fax (516) 568-2716.

SUPPLEMENTARY INFORMATION: A proposal to amend part 39 of the Federal Aviation Regulations (14 CFR part 39) to include an AD that is applicable to certain Breeze Eastern Aerospace rescue hoists was published in the Federal Register on June 20, 2002 (67 FR 43566). That action proposed to require a one-time inspection of the mounting brackets for cracks, and, if necessary, replacement with serviceable parts in accordance with Breeze Eastern Aerospace Customer Advisory Bulletin CAB-100-56, dated November 11, 1997.

Comments

Interested persons have been afforded an opportunity to participate in the making of this amendment. No comments were received on the proposal or the FAA's determination of the cost to the public. The FAA has determined that air safety and the public interest require the adoption of the rule as proposed.

Economic Analysis

There are approximately 300 hoists of the affected design in the worldwide fleet. The FAA estimates that 100 hoists installed on helicopters of U.S. registry would be affected by this AD, that it would take approximately 2 work hours per hoist to accomplish the required actions, and that the average labor rate is $60 per work hour. Required parts would cost approximately $35 per hoist. Based on these figures, the total cost of the AD to U.S. operators is estimated to be $15,500.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-20-05 Breeze Eastern Aerospace: Amendment 39-12901. Docket No. 98-ANE-37-AD.

Applicability: This airworthiness directive (AD) is applicable to Breeze Eastern Aerospace rescue hoists series BL-16600, excluding BL-16600-160. These hoists are installed on, but not limited to Augusta A109, Bell 206, Bell 222, Bell 407, Eurocopter France AS332, McDonnell Douglas MD-500, and Sikorsky S-61 helicopters.

Note 1: This AD applies to each hoist identified in the preceding applicability provision, regardless of whether it has been modified, altered, or repaired in the area subject to the requirements of this AD. For hoists that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Compliance with this AD is required as indicated, unless already done.

To prevent mounting bracket cracks, which could result in mounting bracket failure and separation of the rescue hoist from the helicopter, do the following:

(a) Before the next usage of the rescue hoist after the effective date of this AD, perform a one-time inspection for mounting bracket cracks, and, if necessary, replace with serviceable parts, in accordance with Breeze Eastern Customer Aerospace Advisory Bulletin CAB-100-56, dated November 11, 1997.

Alternative Methods of Compliance

(b) An alternative method of compliance or adjustment of the compliance time that provides an acceptable level of safety may be used if approved by the Manager, New York Aircraft Certification Office (NYACO). Operators must submit their request through an appropriate FAA Principal Maintenance Inspector, who may add comments and then send it to the Manager, New York Aircraft Certification Office.

Note 2: Information concerning the existence of approved alternative methods of compliance with this airworthiness directive, if any, may be obtained from the NYACO.

Special Flight Permits

(c) Special flight permits may be issued in accordance with §§ 21.197 and 21.199 of the Federal Aviation Regulations (14 CFR 21.197 and 21.199) to operate the helicopter to a location where the requirements of this AD can be done.

Documents That Have Been Incorporated By Reference

(d) The inspection must be done in accordance with Breeze Eastern Aerospace Customer Advisory Bulletin CAB-100-56, dated November 11, 1997.

This incorporation by reference was approved by the Director of the Federal Register in accordance with 5 U.S.C. 552(a) and 1 CFR part 51. Copies may be obtained from Breeze Eastern Aerospace, 700 Liberty Avenue, Union, NJ 07083; telephone (908) 686-4000; fax (908) 686-9292. Copies may be inspected at the FAA, New England Region, Office of the Regional Counsel, 12 New England Executive Park, Burlington, MA; or at the Office of the Federal Register, 800 North Capitol Street, NW., suite 700, Washington, DC.

Effective Date

(e) This amendment becomes effective on November 7, 2002.

Issued in Burlington, Massachusetts, on September 25, 2002.
Jay J. Pardee,
Manager, Engine and Propeller Directorate, Aircraft Certification Service.

[FR Doc. 02-24957 Filed 10-2-02; 8:45 am]

BILLING CODE 4910-13-P